DEPARTMENT OF AGRICULTURE

Forest Service

Revised Land and Resource Management Plan for the Monongahela National Forest: Barbour, Grant, Greenbrier, Nicholas, Pendleton, Pocahontas, Preston, Randolph, Tucker, and Webster Counties, WV

AGENCY: Forest Service, USDA.

ACTION: Notice of intent to prepare an environmental impact statement (EIS).

SUMMARY: The USDA Forest Service intends to prepare an environmental impact statement for revising the Monongahela National Forest Land and Resource Management Plan (Forest Plan) pursuant to 16 U.S.C. 1604(f)(5) and USDA Forest Service National Forest System Land and Resource Management Planning regulations. The revised Forest Plan will supersede the Forest Plan previously approved by the Regional Forester in January 1986, and Forest Plan amendments 1 through 5; dated June 24, 1988, April 20, 1990, June 28, 1991, October 1992, and August 27, 1992, respectively. The 1986 Forest Plan will remain in effect until this revision effort is completed. This notice identifies the topics that will help focus our revision effort, lists possible changes to the Forest Plan, displays the estimated dates for filing the EIS, provides information concerning public participation, and provides the names and addresses of the responsible agency official and the individuals who can provide additional information.

DATES: We need to receive your comments on this Notice of Intent in writing within 90 days after this notice is published in the Federal Register. The draft EIS should be available for public review by December 2004. The final EIS and revised Forest Plan are expected to be completed by December 2005.

ADRESSES: Send written comments to: NOI—FP Revision, Monongahela National Forest, 200 Sycamore Street, Elkins, West Virginia 26241, or direct electronic mail to: r9_monong_website@fs.fed.us and “ATTN: Forest Plan Revision” in the subject line.

FOR FURTHER INFORMATION CONTACT: Doug Adamo, Forest Planner; or Kate Goodrich, Forest Public Affairs Officer at the address listed in the previous section, or by calling (304) 636-1800, fax number (304) 636-1875.

RESPONSIBLE OFFICIAL: The Responsible Official for this action is Donald L. Meyer, Acting Regional Forester, Eastern Region, 310 W. Wisconsin Avenue, Milwaukee, Wisconsin 53203.

SUPPLEMENTARY INFORMATION: The Regional Forester for the Eastern Region gives notice of the agency's intent to prepare an EIS to revise the Land and Resource Management Plan for the Monongahela National Forest (Forest Plan) pursuant to 16 U.S.C. 1604(f)(5) and USDA Forest Service National Forest System Land and Resource Management Planning regulations. The Regional Forester approved the original Forest Plan in January 1986. This Forest Plan, and the aforementioned plan amendments, guide the overall management of the Monongahela National Forest.

Forest Plan Decisions

We make six primary decisions in the Forest Plan, including:

1. Forest-wide multiple-use goals and objectives. Goals describe a desired condition to be achieved sometime in the future. Objectives are concise, time-specific statements of measurable planned results that respond to goals.

2. Forest-wide management requirements (standards and guidelines). These are limitations on management activities, or advisable courses of action that apply across the entire forest.

3. Management area direction applying to future activities in each management area. This is the desired future condition specified for certain portions of the forest, and the accompanying standards and guidelines to help achieve that condition.

4. Lands suited and not suited for resource use and production (such as timber management and grazing).

5. Monitoring and evaluation requirements needed to gauge how well the plan is being implemented.

6. Recommendations to Congress, if any (such as Wilderness or Wild and Scenic River designation).

The scope of this revision is limited to changing only those portions of the current Forest Plan that need revision, update, or correction. We propose to narrow the scope of revising the Forest Plan by focusing on topics identified as being most critically in need of change. The six decisions listed above will be revisited only in how they apply to the revision topics that are identified.

Purpose and Need for Action

There are three compelling reasons to revise the 1986 Forest Plan: (1) 15 years have passed since the Regional Forester approved the original Forest Plan for the Monongahela National Forest and national forests must revise the forest plan at least every 15 years according to requirements of the National Forest Management Act [U.S.C. 1604 (f)(5)]; (2) agency goals and objectives, along with other national guidance for strategic plans and programs, have changed more than can effectively be covered by additional forest plan amendments; and (3) new information and changed conditions need to be taken into consideration.

Setting

Throughout the mid-Atlantic region, including the Potomac Highlands of the Appalachian Mountains, people value the opportunities public forests provide. These opportunities include enjoyment of recreation, solitude, nature study and scenic beauty. In addition to such opportunities, the public expects important benefits from managed forests. Benefits provided by the Monongahela National Forest include a natural, forested setting for hunting and fishing; commercial recreation events, relaxation with family and friends, a place to learn about West Virginia history and culture, and wilderness experience, as well as providing wood products, and natural gas and minerals. These benefits and opportunities, coupled with its proximity to population centers, make the Monongahela National Forest integral to the sense of place for communities across West Virginia, as well as for the entire mid-Atlantic region.

Proposed Action

The revision of the Monongahela Forest Plan will focus on management direction and other areas identified as most critically in need of change. The revision topics will be refined, and additional topics may be identified, through the public comment process, through monitoring and evaluation, and experience with implementation of the Forest Plan since 1986. The following preliminary revision topics and associated subtopics have been identified:

1. Watershed Health

• Establish management area goals, and standards and guidelines, to improve watershed health in terms of ecological sustainability, including: Ecological functions, riparian area management, erosion and sedimentation control, flood and flood damage control, and restoration of aquatic ecosystems.

• Establish standards and guidelines to mitigate any adverse impacts on watersheds from acid deposition.

2. Ecosystem Health

• Maintain red spruce, northern hardwood, and oak-hickory ecosystems at sustainable levels.

• Identify appropriate conditions for use of prescribed fire to restore ecosystems, reduce hazardous fuels, maintain healthy forests and provide wildlife habitat.

• Update the current list of management indicator species. Replace some of the game species on the current list with non-game species that better represent habitats and species.

• Establish guidelines to reduce negative impacts to forest health from plant and animal pests, including insect infestations and non-native invasive plant species.

3. Vegetation Management

• Set the Forest Allowable Sale Quantity (ASQ).

• Update standards and guidelines to accommodate appropriate silvicultural methodologies.

• Establish vegetation management goals to better represent ecosystems at appropriate scales.

• Establish appropriate harvest levels to maintain the ecological function and supply of special forest products (i.e., mosses, medicinal herbs, mushrooms, firewood).

4. Visitor Opportunities and Access

• Establish direction for the Forest trail systems.

• Update road and trail density guidance to maintain a variety of visitor experiences.

• Establish guidance to maintain dispersed and developed recreation settings that provide customer satisfaction.

5. Land Allocations

• Adjust Management Area boundaries where needed to incorporate ecological land types, current social demands, and management practicalities.

• Establish Management Area(s) and appropriate standards and guidelines to protect rivers eligible for inclusion in the National Wild and Scenic River system.

• Determine whether any areas are appropriate for recommendation to Congress for Wilderness designation.

• Determine the most appropriate use for inventoried roadless areas.

When making decisions to revise the Forest Plan, we will examine economic and social impacts, as well as environmental impacts at local and sub-regional levels. Based on the above-mentioned preliminary revision topics and associated sub-topics, the Forest planning team is gathering information for an analysis of current and projected uses, demand, and capabilities of the Forest. Data gathering and analyses that are either underway or planned include a recreation feasibility study, a social assessment, evaluation of potential roadless areas, special forest products inventories and species viability evaluations. Collectively, this information and analysis will contribute to our Analysis of the Management Situation. The Analysis of the Management Situation, studies, and related references compiled by the planning team, will be made available for public review upon completion.

In addition to the preliminary revision topics, we propose to revise the Forest Plan to:

• Make minor changes throughout the Forest Plan for new or updated information;

• Update the monitoring and evaluation strategy; and

• Incorporate the Scenery Management System (SMS) in place of the current system to evaluate visual resources.

Topics Not Addressed in This Revision

Forest plan decisions do not change laws, regulations or rights. The revised Forest Plan will only make decisions that apply to National Forest System lands. The Forest Plan will make no decisions regarding management or use of privately owned lands or reserved and outstanding mineral estates. Further suitability studies of Wild and Scenic Rivers will not be completed as a part of this Forest Plan revision. Topics related to implementing projects or enforcing regulations are also beyond the scope of what can be decided in a forest plan.

The management guidelines related to the federally listed (endangered) Indiana Bat and West Virginia Northern Flying Squirrel are not included as a revision topic because the Forest is currently amending the existing Forest Plan for these species based on formal consultation with the U.S. Department of Interior's Fish and Wildlife Service. Information about these species will be brought forward into the revised Forest Plan and does not need to be duplicated during the revision process. The alternatives in the final EIS will be analyzed for their effects on Threatened and Endangered Species.

Public comments received on topics that will not be addressed in the revised Forest Plan will be forwarded to the managers responsible for that topic area. The comments will be considered as managers develop information and proposals related to those topics. Such proposals may result in future plan amendments, changes in implementation, changes in program emphasis, or various other means of addressing concerns related to a particular topic. Implementation of proposals will be addressed as budget priorities allow.

Possible Alternatives

We will consider a range of alternatives when revising the Forest Plan. Alternatives will be developed to address different options to resolve issues raised about the proposed action, and the revision topics and proposals listed above, and to fulfill the purpose and need described earlier in this document. A “No Action” alternative is required and will be considered. For this analysis, the No Action alternative means that management would continue under the existing Forest Plan as amended.

Decision Framework

The Responsible Official will decide on the management direction for the Monongahela National Forest. The Responsible Official's choices will include:

1. The No Action Alternative, which would continue management under the current Forest Plan as amended; and

2. Alternatives developed during the revision process to address issues raised about the Proposed Action.

Inviting Public Participation

Following publication of this Notice of Intent, we will provide opportunities for public involvement including: a 90-day formal comment period, public meetings, written comments, website and e-mail. The Forest Service will host a series of public meetings to: (1) Establish multiple opportunities for the public to generate ideas, concerns, and alternatives; (2) present and clarify proposed changes to the Forest Plan; (3) describe ways that individuals can respond to this Notice of Intent; and (4) invite comments from the public on this proposal for revising the Forest Plan.

The table below presents the schedule of initial meetings that will be held during the 90-day public comment period. If you need special accommodations, please contact Doug Adamo, Forest Planner; or Kate Goodrich, Forest Public Affairs Officer, by calling (304) 636-1800, fax number (304) 636-1875.

Date | Location | Time
June 15, 2002 | Seneca Rocks Discovery, Center, Intersection of State Routes 28 and 33, Seneca Rocks, Pendleton County, West Virginia | Two Meetings: 9 a.m.-12 noon. 1 p.m.-4 p.m.
June 17, 2002 | Graceland Inn and Conference Center, Davis and Elkins College, 100 Campus Drive, Elkins, West Virginia 26241 | 4 p.m.-7 p.m.
June 18, 2002 | Richwood Public Library, White Avenue, Richwood, West Virginia 26261 | 4 p.m.-7 p.m.
June 20, 2002 | McClintic Public Library, 500 Eighth Street, Marlinton, West Virginia 24954 | 4 p.m.-7 p.m.
June 24, 2002 | Blackwater Falls State Park, Harr Conference Center, Davis, West Virginia 26260 | 4 p.m.-7 p.m.
June 25, 2002 | White Sulphur Springs City Hall, White Sulphur Springs, West Virginia 24986 | 4 p.m.-7 p.m.

From mid-2002 through mid-2004, we will validate issues and develop alternatives. We will provide many types of public involvement in support of alternative development, including public workshops, collaborative meetings, and website, as well as acceptance of written comments via regular mail and e-mail.

Late in the year 2004, we will release our proposed revised Forest Plan and a draft EIS. We will again provide many types of public involvement opportunities including a 90-day formal comment period, public meetings, and website, as well as acceptance of written comments via regular mail and e-mail.

In 2005, we will address the comments and revise the draft EIS based on those comments and further analysis. By mid-2005, we will release the decision, final revised Forest Plan, final EIS, and record of decision. We will provide informational meetings to explain these documents and decision on the final Forest Plan.

Availability of Public Comment

Comments received in response to this solicitation, including names and addresses of those who comment, will be considered part of the public record on this proposed action and will be available for public inspection.

Additionally, pursuant to 7 CFR 1.27(d), any persons may request the agency to withhold a submission from the record by showing how the Freedom of Information Act (FOIA) permits such confidentiality. Persons requesting such confidentiality should be aware that, under the FOIA, confidentiality may be granted in only limited circumstances, such as to protect trade secrets.

The Forest Service will inform the requester of the agency's decision regarding the request for confidentiality, and if the requester is denied, the agency will return the submission and notify the requester that the comments may be resubmitted with or without name and address within 90 days.

Comment Requested

This Notice of Intent initiates the scoping process, which assists the Forest Service in the development of the EIS. Comments will be most helpful if they are written and are specific in nature, stating not only the area of concern, but also the reason for the concern.

The Forest Plan revision will include a social impact analysis, which will include considerations of potential effects to environmental justice concerns and individual civil rights. Comments regarding these topics are also requested.

Proposed New Planning Regulations

The U.S. Department of Agriculture (USDA) published new planning regulations in November of 2000. Concerns regarding the ability to implement these regulations prompted a review with probable revision of these regulations. On May 10, 2001, USDA Secretary Veneman signed an interim final rule allowing Forest Plan amendments or revisions initiated before May 9, 2002, to proceed either under the new planning rule or under the 1982 planning regulations. The Monongahela National Forest revision process will be initiated under the 1982 planning regulations, pending future direction in revised regulations.

Early Notice of Importance of Public Participation in Subsequent Environmental Review

A draft EIS will be prepared for comment. The comment period for the draft EIS will be 90 days from the date the U.S. Environmental Protection Agency publishes the Notice of Availability in the Federal Register.

The Forest Service believes it is important to provide reviewers notice of several court rulings related to public participation in the environmental review process. First, reviewers of draft environmental impact statements must structure their participation in the environmental review of the proposal so that it is meaningful and alerts an agency to the reviewer's position and contentions [Vermont Yankee Nuclear Power Corp. v. NRDS, 435 U.S. 519, 553 (1978)]. Also, environmental objections that could be raised at the draft environmental impact stage but that are not raised until after completion of the final environmental impact statement may be waived or dismissed by the courts [City of Angoon v. Hodel, 803 F2d 1016, 1022 (9th cir. 1986) and Wisconsin Heritages, Inc. v. Harris, 490 F. Supp. 1334, 1338 (E.D. Wis. 1980)]. Because of these court rulings, it is very important that those interested in this proposed action participate by the close of the 90-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft environmental impact statement or the merits of the alternatives formulated and discussed in the statement. Reviewers may wish to refer to the Council of Environmental Quality Regulations (http://ceq.eh.doe.gov/nepa/nepanet.htm) for implementing the procedural provision of the National Environmental Policy Act at 40 CFR 1503.3 in addressing these points.

Dated: April 26, 2002.
Donald L. Meyer,
Acting Regional Forester.

[FR Doc. 02-10971 Filed 5-2-02; 8:45 am]

BILLING CODE 3410-11-P